DEPARTMENT OF COMMERCE

International Trade Administration

[A-580-813]

Notice of Final Results of Antidumping Duty New Shipper Review; Stainless Steel Butt-Weld Pipe Fittings From Korea

AGENCY: Import Administration, International Trade Administration, Department of Commerce.

ACTION: Notice of Final Results of Antidumping Duty New Shipper Review.

SUMMARY: On July 17, 2002, the Department of Commerce published the preliminary results of the new shipper review of the antidumping duty order on stainless steel butt-weld pipe fittings from Korea. This new shipper review covers imports of subject merchandise from TK Corporation.

The period of review is February 1, 2001, through August 1, 2001.

No party submitted any comments on the preliminary results, and we have made no changes to the programming. Therefore, the final results do not differ from the preliminary results.

EFFECTIVE DATE: December 18, 2002.

FOR FURTHER INFORMATION CONTACT: Fred Baker, Mike Heaney, or Robert James, AD/CVD Enforcement, Group III, Import Administration, International Trade Administration, U.S. Department of Commerce, 14th Street and Constitution Avenue, NW., Washington, DC 20230, telephone: (202) 482-2924, (202) 482-4475, or (202) 482-0649, respectively.

SUPPLEMENTARY INFORMATION:

Applicable statute and regulations:

Unless otherwise indicated, all citations to the Tariff Act of 1930, as amended (the Tariff Act) are references to the provisions effective January 1, 1995, the effective date of the amendments made to the Tariff Act by the Uruguay Round Agreements Act (URAA). In addition, unless otherwise indicated, all citations to the Department's regulations are to 19 CFR part 351 (April 1, 2001).

Background

On July 17, 2002, the Department published the preliminary results of the new shipper review of the antidumping duty order on stainless steel butt-weld pipe fittings from Korea. See Notice of Preliminary Results of Antidumping Duty New Shipper Review Stainless Steel Butt-Weld Pipe Fittings from Korea, 67 FR 46953 (July 17, 2002). We extended the due date for the final results of review on October 31, 2002. See Notice of Extension of Time Limit of Final Results of New Shipper Review: Stainless Steel Butt-Weld Pipe Fittings from Korea, 67 FR 66383 (October 31, 2002). This review covers one manufacturer, TK Corporation.

On October 5, 2001, the Department initiated this new shipper review for the period February 1, 2001, through July 31, 2001. However, on April 5, 2002, TK Corporation, in response to a supplemental questionnaire that the Department issued on March 28, 2002, submitted the information that any shipments during the period of review (POR) entered U.S. Customs territory on August 1, 2001, one day after the POR ended. Therefore, we have expanded the POR by one day. Thus, the POR for this new shipper review is February 1, 2001, through August 1, 2001.

The Department has now completed this review in accordance with section 751 of the Tariff Act.

Scope of the Review

The products subject to this review are certain welded stainless steel butt-weld pipe fittings (pipe fittings), whether finished or unfinished, under 14 inches in inside diameter.

Pipe fittings are used to connect pipe sections in piping systems where conditions require welded connections. The subject merchandise can be used where one or more of the following conditions is a factor in designing the piping system: (1) Corrosion of the piping system will occur if material other than stainless steel is used; (2) contamination of the material in the system by the system itself must be prevented; (3) high temperatures are present; (4) extreme low temperatures are present; (5) high pressures are contained within the system.

Pipe fittings come in a variety of shapes, and the following five are the most basic: “elbows,” “tees,” “reducers,” “stub ends,” and “caps.” The edges of finished fittings are beveled. Threaded, grooved, and bolted fittings are excluded from this review. The pipe fittings subject to this review are classifiable under subheading 7307.23.00 of the Harmonized Tariff Schedule of the United States (HTSUS). Although the HTSUS subheading is provided for convenience and customs purposes, our written description of the scope of this proceeding is dispositive.

Analysis of Comments Received

No parties submitted comments on the preliminary results of review. Accordingly, there is no concurrent issues and decision memorandum or analysis memorandum issued with these final results of review.

Changes Since the Preliminary Results

We have made no changes in programming since the preliminary results of review.

Final Results of Review

We determine that a margin of zero percent exists for TK Corporation for the period February 1, 2001, through August 1, 2001.

Assessment

The Department will determine, and the Customs Service shall assess, antidumping duties on all appropriate entries. In accordance with 19 CFR 351.212(b)(1), we have calculated an exporter/importer-specific assessment rate for merchandise subject to this review. The Department will issue appropriate assessment instructions directly to the Customs Service within 15 days of publication of these final results of review. We will direct the Customs Service to assess the resulting assessment rates against the entered customs values for the subject merchandise on each of the importer's entries during the review period.

Cash Deposit Requirements

Bonding is no longer permitted to fulfill security requirements for shipments from TK Corporation of stainless steel butt-weld pipe fittings from Korea entered, or withdrawn from warehouse, for consumption on or after the publication date of these final results of new shipper review. The following cash-deposit requirements will be effective upon publication of the final results of this new shipper review for all shipments of subject merchandise entered or withdrawn from warehouse for consumption on or after the publication date as provided for by section 751(a)(2)(C) of the Tariff Act:

• For subject merchandise manufactured and exported by TK Corporation no cash deposit is required. In accordance with the practice established in Fresh Garlic from the People's Republic of China: Final Results of Antidumping Duty New Shipper Review, 67 FR 72139 (December 4, 2002) and Notice of Preliminary Results of Antidumping Duty New Shipper Review: Freshwater Crawfish Tail Meat from the People's Republic of China, 67 FR 52442 (August 12, 2002), the new shipper review cash deposit rate will only apply to the merchandise subject to this new shipper review, i.e., merchandise produced and exported by TK Corporation.

• For subject merchandise exported by TK Corporation but not manufactured by TK Corporation, the cash-deposit rate will be the rate applicable to the manufacturer.

• If the exporter is not a firm covered in this review or in any previous segment of this proceeding, but the manufacturer is, the cash deposit rate will be that established for the manufacturer in the most recent segment of these proceedings in which that manufacturer participated.

• If neither the exporter nor the manufacturer is a firm covered in this review or in any previous segment of this proceeding, the cash deposit rate will be 21.2 percent, the all others rate established in the less-than-fair-value investigation. (See Final Determination of Sales at Less Than Fair Value: Certain Welded Stainless Steel Butt-Weld Pipe Fittings from the Republic of Korea, 57 FR 61881 (December 29, 1992)).

These deposit requirements shall remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

This notice also serves as a reminder to parties subject to administrative protective order (APO) of their responsibility concerning the disposition of proprietary information disclosed under APO in accordance with 19 CFR 351.305. Timely notification of return/destruction of APO materials or conversion to judicial protective order is hereby requested. Failure to comply with the regulations and terms of an APO is a sanctionable violation.

We are issuing and publishing this administrative review and notice in accordance with sections 751(a)(2)(B) and 777(i) of the Tariff Act.

Dated: December 9, 2002.
Faryar Shirzad,
Assistant Secretary for Import Administration.

[FR Doc. 02-31893 Filed 12-17-02; 8:45 am]

BILLING CODE 3510-DS-S